DEPARTMENT OF COMMERCE.

International Trade Administration

A-588-835

Oil Country Tubular Goods from Japan: Final Results and Rescission of Antidumping Duty Administrative Review

AGENCY: Import Administration, International Trade Administration, U.S. Department of Commerce

SUMMARY: On June 22, 2006, the Department of Commerce (the Department) published in the Federal Register the notice of intent to rescind the administrative review of the antidumping duty order on Oil Country Tubular Goods (OCTG) from Japan. This review covers four manufactures/exporters: JFE Steel Corporation (JFE), Nippon Steel Corporation (Nippon), NKK Tubes (NKK) and Sumitomo Metal Industries, Ltd. (SMI). The period of review (POR) covers sales of subject merchandise to the United States during the period August 1, 2004 through July 31, 2005.

We provided interested parties with an opportunity to comment on the notice of intent to rescind this administrative review. However, we received no comments from interested parties. Consequently, no changes have been made to the preliminary results of the review.

EFFECTIVE DATE: September 21, 2006.

FOR FURTHER INFORMATION CONTACT: Mark Hoadley or Jun Jack Zhao, AD/CVD Operations, Office 6, Import Administration, International Trade Administration, U.S. Department of Commerce, 14th Street and Constitution Avenue, NW, Washington, DC 20230; telephone: (202) 482-3148 or (202) 482-1396, respectively.

SUPPLEMENTARY INFORMATION: On June 22, 2006, the Department published in the Federal Register a notice of intent to rescind the antidumping duty administrative review of the antidumping duty order on OCTG from Japan. See Oil Country Tubular Goods from Japan: Notice of Intent to Rescind Antidumping Duty Administrative Review, 71 FR 35865 (June 22, 2006) (Preliminary Results). No interested parties filed case briefs in response to the Department's invitation to comment on the Preliminary Results.

Scope of the Order

The merchandise covered by this order consists of oil country tubular goods, hollow steel products of circular cross-section, including oil well casing, tubing, and drill pipe, of iron (other than cast iron) or steel (both carbon and alloy), whether seamless or welded, whether or not conforming to American Petroleum Institute (API) or non-API specifications, whether finished or unfinished (including green tubes and limited service OCTG products). This scope does not cover casing, tubing, or drill pipe containing 10.5 percent or more of chromium. The products subject to this order are currently classified in the Harmonized Tariff Schedule of the United States (HTSUS) under item numbers: 7304.21.30.00, 7304.21.60.30, 7304.21.60.45, 7304.21.60.60, 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.30.10, 7304.29.30.20, 7304.29.30.30, 7304.29.30.40, 7304.29.30.50, 7304.29.30.60, 7304.29.30.80, 7304.29.40.10, 7304.29.40.20, 7304.29.40.30, 7304.29.40.40, 7304.29.40.50, 7304.29.40.60, 7304.29.40.80, 7304.29.50.15, 7304.29.50.30, 7304.29.50.45, 7304.29.50.60, 7304.29.50.75, 7304.29.60.15, 7304.29.60.30, 7304.29.60.45, 7304.29.60.60, 7304.29.60.75, 7305.20.20.00, 7305.20.40.00, 7305.20.60.00, 7305.20.80.00, 7306.20.10.30, 7306.20.10.90, 7306.20.20.00, 7306.20.30.00, 7306.20.40.00, 7306.20.60.10, 7306.20.60.50, 7306.20.80.10, and 7306.20.80.50. Although the HTSUS subheadings are provided for convenience and customs purposes, our written description of the scope of this order is dispositive.

Final Results of Review

As stated in the Preliminary Results, the Department determined that JFE and NKK had no shipments of subject merchandise, and that Nippon and SMI had no reviewable sales of subject merchandise during the POR. Although our review of data from U.S. Customs and Border Protection (CBP) showed that there were entries during the POR of merchandise produced by Nippon and SMI, based on information and documentation submitted by Nippon and SMI, we determined that those entries were either made by unaffiliated resellers without the knowledge of either Nippon or SMI, or were sample merchandise. As such, they are not subject to the administrative review of Nippon and SMI. See memorandum from Jun Jack Zhao to Barbara E. Tillman through Dana Mermelstein, Analysis Memorandum regarding the Administrative Review of the Antidumping Duty Order on Oil Country Tubular Goods from Japan (A-588-835), dated June 15, 2006. We did not receive comments from any of the interested parties on the Preliminary Results. Accordingly, we do not have any reason to reconsider our preliminary decision. Therefore, consistent with the Department's preliminary results of this review, and in accordance with 19 CFR § 351.213(d)(3), we are rescinding the review with respect to all four companies.

Duty Assessment

The Department will determine, and CBP shall assess, antidumping duties on all appropriate entries, pursuant to 19 CFR § 351.212(b). We will direct CBP to liquidate any entries of subject merchandise manufactured by JFE, Nippon, NKK, SMI, and entered or withdrawn from warehouse for consumption during the POR, at the “all others” rate, 44.20 percent, in accordance with the Department's clarification of its assessment regulation, as the sale of any such entries were made by intermediary companies (e.g., resellers) not covered in this review, a prior review, or the less than fair value (LTFV) investigation. See Antidumping and Countervailing Duty Proceedings: Assessment of Antidumping Duties, 68 FR 23954(May 6, 2003). The Department will issue appropriate assessment instructions directly to CBP within 15 days of publication of these final results of review.

Cash Deposit Requirements

The following cash deposit rates will be effective with respect to all shipments of OCTG from Japan entered, or withdrawn from warehouse, for consumption on or after the publication date of the final results, as provided for by section 751(a)(1) of the Act: (1) for all four companies, JFE, NKK, Nippon and SMI, the cash deposit rate will remain unchanged and will be the company-specific rate established for the most recent period; (2) for previously reviewed or investigated companies not listed above, the cash deposit rate will be the company-specific rate established for the most recent period; (3) if the exporter is not a firm covered in this review, a prior review, or the LTFV investigation, but the manufacturer is, the cash deposit rate will be the rate established for the most recent period for the manufacturer of the subject merchandise; and (4) if neither the exporter nor the manufacturer is a firm covered by this review, a prior review, or the LTFV investigation, the cash deposit rate shall be the “all others” rate established in the LTFV investigation, which is 44.20 percent. See Notice of Amended Final Determination of Sales at Less Than Fair Value and Antidumping Duty Order: Oil Country Tubular Goods from Japan, 60 FR 155 (August 11, 1995). These deposit rates, when imposed, shall remain in effect until publication of the final results of the next administrative review.

Notification to Importers

This notice serves as a final reminder to importers of their responsibility under 19 CFR § 351.402(f) to file a certificate regarding the reimbursement of antidumping duties prior to liquidation of the relevant entries during this review period. Failure to comply with this requirement could result in the Secretary's presumption that reimbursement of antidumping duties occurred and the subsequent assessment of double antidumping duties.

Administrative Protective Orders

This notice also serves as a reminder to parties subject to administrative protective orders (APOs) of their responsibility concerning the return or destruction of proprietary information disclosed under APO in accordance with 19 CFR § 351.305. Timely written notification of the return/destruction of APO materials or conversion to judicial protective order is hereby requested. Failure to comply with the regulations and terms of an APO is a violation that is subject to sanction.

This administrative review and notice are issued and published in accordance with sections 751(a)(1) and 777(i)(1) of the Act.

Dated: September 13, 2006.
David M. Spooner,
Assistant Secretary for Import Administration.

[FR Doc. 06-7797 Filed 9-20-06; 8:45 am]

BILLING CODE 3510-DR-S